DEPARTMENT OF HOMELAND SECURITY

[Docket No. DHS-2007-0075]

Homeland Security Science and Technology Advisory Committee

AGENCY: Science and Technology Directorate, HSD.

ACTION: Committee Management; Notice of partially closed Federal Advisory Committee Meeting.

SUMMARY: The Homeland Security Science and Technology Advisory Committee will meet December 04-06, 2007, at 1120 Vermont Avenue, NW., Washington, DC.

DATES: The Homeland Security Science and Technology Advisory Committee will meet December 04, 2007, from 8 a.m. to 4 p.m.; on December 05, 2007, from 8 a.m. to 4 p.m.; and on December 06, 2007, from 8 a.m. to 4 p.m. The meeting will be open to the public on December 4th from 8 a.m. to 12 p.m. The meetings on December 4th from 12 p.m. to 4 p.m., December 5th from 8 a.m. to 4 p.m., and December 6th from 8 a.m. to 4 p.m. will be closed to the public.

ADDRESSES: The meeting will be held at 1120 Vermont Avenue, NW., Washington, DC. Requests to have written material distributed to each member of the committee prior to the meeting should reach the contact person at the address below by November 23, 2007. Send written material to Ms. Deborah Russell, Science and Technology Directorate, Department of Homeland Security, 245 Murray Drive, Bldg. 410, Washington, DC 20528. Comments must be identified by DHS-2007-0075 and may be submitted by one of the following methods:

• Federal eRulemaking Portal: http://www.regulations.gov. Follow the instructions for submitting comments.

• E-mail: HSSTAC@dhs.gov. Include the docket number in the subject line of the message.

• Fax: 202-254-6177.

• Mail: Ms. Deborah Russell, Science and Technology Directorate, Department of Homeland Security, 245 Murray Drive, Bldg. 410, Washington, DC 20528.

Instructions: All submissions received must include the words “Department of Homeland Security” and the docket number for this action. Comments received will be posted without alteration at www.regulations.gov, including any personal information provided.

Docket: For access to the docket to read background documents or comments received by the Homeland Security Science and Technology Advisory Committee, go to http://www.regulations.gov.

FOR FURTHER INFORMATION CONTACT: Ms. Deborah Russell, at the address above or by phone at 202-254-5739.

SUPPLEMENTARY INFORMATION: Notice of this meeting is given under the Federal Advisory Committee Act, Public Law 92-463, as amended (5 U.S.C. App. 2).

The committee will meet for the purpose of receiving sensitive Homeland Security and classified briefings on Improvised Explosive Devices (IEDs) and will discuss the identification and location of IEDs based on experience in UK, Spain, Japan, etc.; countermeasures used in Iraq/Afghanistan and their applicability to U.S. homeland situations; psychological effects of IEDs; and the IED threat to national security.

Basis for Closure: In accordance with Section 10(d) of the Federal Advisory Committee Act, portions of the Science and Technology Advisory Committee meeting concern sensitive Homeland Security information and classified matters within the meaning of 5 U.S.C. 552b(c)(1) and (c)(9)(B) and that, accordingly, sensitive portions of the meeting dealing will be closed to the public.

Dated: November 8, 2007.
Jay M. Cohen,
Under Secretary for Science and Technology.

[FR Doc. E7-22344 Filed 11-15-07; 8:45 am]

BILLING CODE 4410-10-P